DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet June 1, 2016, 10:00 a.m. to 12:00 p.m.

The meeting will include discussion and evaluation of grant applications reviewed by Initial Review Groups, an examination of confidential financial, business and personal information concerning the applicants and discussion of grant award proposals. Therefore, the meeting will be closed to the public, as determined by the SAMHSA Administrator, in accordance with title 5 U.S.C. 552b(c)(4) and (6) and (c)(9)(B) and 5 U.S.C. App. 2, section 10(d).

The meeting will be held virtually. Meeting information and a roster of Council members may be obtained either by accessing the SAMHSA Council Web site at: http://www.samhsa.gov/about-us/advisory-councils/cmhs-national-advisory-council or by contacting the CMHS National Advisory Council Designated Federal Official, Ms. Deborah DeMasse-Snell (see contact information below).

Committee Name: SAMHSA's Center for Mental Health Services National Advisory Council.

Date/Time/Type: June 1, 2016, 10:00 a.m.-12:00 p.m. CLOSED.

Place: SAMHSA Building, 5600 Fishers Lane, Conference Room 14E56, Rockville, Maryland 20857.

Contact: Deborah DeMasse-Snell, M.A. (Than), Designated Federal Official, SAMHSA CMHS National Advisory Council, 5600 Fishers Lane, Room 14E53C, Rockville, Maryland 20857, Telephone: (240) 276-1861, Fax: (240) 276-1850, Email: Deborah.DeMasse-Snell@samhsa.hhs.gov.

Summer King,
Statistician, SAMHSA.

[FR Doc. 2016-11247 Filed 5-12-16; 8:45 am]

BILLING CODE 4162-20-P